NUCLEAR REGULATORY COMMISSION

[NRC-2013-0233]

Biweekly Notice; Applications and Amendments to Facility Operating Licenses and Combined Licenses Involving No Significant Hazards Considerations

Background

Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from September 19, 2013, to October 2, 2013. The last biweekly notice was published on October 1, 2013 (78 FR 60321). Due to the Federal Government shutdown, there was no biweekly publication on October 15, 2013.

ADDRESSES: You may submit comment by any of the following methods (unless this document describes a different method for submitting comments on a specific subject):

• Federal Rulemaking Web site: Go to http://www.regulations.gov and search for Docket ID NRC-2013-0233. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN, 06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0233 when contacting the NRC about the availability of information regarding this document. You may access publicly-available information related to this action by the following methods:

• Federal Rulemaking Web site: Go to http://www.regulations.gov and search for Docket ID NRC-2013-0233.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0233 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC`s Web site at http://www.nrc.gov/site-help/e-submittals.html, by email to MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Dairyland Power Cooperative, Docket Nos. 50-409 and 72-046, La Crosse Boiling Water Reactor (LACBWR), La Crosse County, Wisconsin

Date of amendment request: August 6, 2013.

Description of amendment request: The proposed amendment would change the LACBWR Emergency Plan. Dairyland Power Cooperative (DPC) proposes removal of the various emergency actions related to the former spent fuel pool, the transfer of responsibility for implementing the Emergency Plan to the Security Shift Supervisors at the Independent Spent Fuel Storage Installation (ISFSI), a revised emergency plan organization, removal of the fire brigade, and abandonment of the Control Room consistent with the current state of decommissioning.

Basis for proposed no significant hazards consideration determination: As required by 10 CFR 50.91(a), the licensee has provided its analysis of the issue of no significant hazards consideration, which is presented below:

1. Does the proposed amendment involve a significant increase in the probability or consequences of an accident previously evaluated?

Response: No.

DPC has in effect an NRC-approved E-Plan. There are no longer credible events that would result in doses to the public beyond the owner controlled area boundary that would exceed the EPA PAGs. LACBWR was shutdown 25 years ago. Emergency Planning Zones beyond the owner controlled area and the associated protective actions are no longer required. No headquarters personnel, personnel involved in off-site dose projections, or personnel with special qualifications are required to augment the LACBWR Emergency Response Organization. The credible events for the ISFSI remain unchanged. The indications of damage to a loaded cask confinement boundary have been revised to be twice the technical specification limit for contact dose. This change is consistent with industry practices previously approved by the NRC for other ISFSIs to be able to distinguish that a degraded condition exists.

Therefore, the proposed change does not involve a significant increase in the probability or consequences of an accident previously evaluated.

2. Does the proposed amendment create the possibility of a new or different kind of accident from any accident previously evaluated?

Response: No.

DPC has in effect an NRC-approved E-Plan. There are no longer credible events that would result in doses to the public beyond the owner controlled area boundary that would exceed the EPA PAGs. LACBWR was shutdown 25 years ago. Emergency Planning Zones beyond the owner controlled area and the associated protective actions are no longer required. No headquarters personnel, personnel involved in off-site dose projections, or personnel with special qualifications are required to augment the LACBWR Emergency Response Organization. The advanced state of decommissioning is reflected in the updated and revised ODCM [Offsite Dose Calculation Manual] which shows that there are no longer any events at the former plant that could exceed the EPA PAGs for dose to a member of the public.

Therefore, the proposed change does not create the possibility of a new or different kind of accident from any previously evaluated.

3. Does the proposed amendment involve a significant reduction in a margin of safety?

Response: No.

Margin of safety is related to the ability of the fission product barriers (fuel cladding, reactor coolant system, and primary containment) to perform their design functions during and following postulated accidents. DPC has in effect an NRC-approved E-Plan. There are no longer credible events that would result in doses to the public beyond the owner controlled area boundary that would exceed the EPA PAGs. LACBWR was shutdown 25 years ago. Emergency Planning Zones beyond the owner controlled area and the associated protective actions are no longer required. No headquarters personnel, personnel involved in offsite dose projections, or personnel with special qualifications are required to augment the LACBWR Emergency Response Organization. The advanced state of decommissioning is reflected in the updated and revised ODCM which shows that there are no longer any events at the former plant that could exceed the EPA PAGs for dose to a member of the public.

Therefore, the proposed change does not involve a significant reduction in margin of safety.

The NRC staff has reviewed the licensee's analysis and, based on this review, it appears that the three standards of 10 CFR 50.92(c) are satisfied. Therefore, the NRC staff proposes to determine that the amendment request involves no significant hazards consideration.

Attorney for licensee: Mr. Thomas Zaremba, Wheeler, Van Sickle and Anderson, Suite 801, 25 West Main Street, Madison, WI 53703-3398.

NRC Branch Chief: Bruce Watson.

Energy Northwest, Docket No. 50-397, Columbia Generating Station, Benton County, Washington

Date of amendment request: July 25, 2013.

Description of amendment request: The proposed amendment would change the Technical Specification (TS) 3.7.4, “Control Room Air Conditioning (AC) System,” requirements by revising the Required Action and associated Completion Time for two inoperable control room air conditioning subsystems. The proposed changes are consistent with NRC-approved TS Task Force (TSTF) change traveler TSTF-477, Revision 3. The availability of this TS improvement was published in the Federal Register on March 26, 2007 (72 FR 14143), as part of the consolidated line item improvement process (CLIIP).

Basis for proposed no significant hazards consideration determination: As required by 10 CFR 50.91(a), Energy Northwest affirmed the applicability of the proposed no significant hazards consideration (NSHC) determination published in the Federal Register as part of the CLlIP (71 FR 75774; December 18, 2006), which is presented below:

Criterion 1—The Proposed Change Does Not Involve a Significant Increase in the Probability or Consequences of an Accident Previously Evaluated

The proposed change is described in Technical Specification Task Force (TSTF) Standard TS Change Traveler TSTF-477 adds an action statement for two inoperable control room subsystems.

The proposed change does not involve a physical alteration of the plant (no new or different type of equipment will be installed). The proposed changes add an action statement for two inoperable control room subsystems. The equipment qualification temperature of the control room equipment is not affected. Future changes to the Bases or licensee-controlled document will be evaluated pursuant to the requirements of 10 CFR 50.59, “Changes, test and experiments,” to ensure that such changes do not result in more than a minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

Criterion 2—The Proposed Change Does Not Create the Possibility of a New or Different Kind of Accident from any Previously Evaluated

The proposed changes add an action statement for two inoperable control room subsystems. The changes do not involve a physical altering of the plant (i.e., no new or different type of equipment will be installed) or a change in methods governing normal plant operation. The requirements in the TS continue to require maintaining the control room temperature within the design limits.

Therefore, the changes do not create the possibility of a new or different kind of accident from any previously evaluated.

Criterion 3—The Proposed Change Does Not Involve a Significant Reduction in the Margin of Safety

The proposed changes add an action statement for two inoperable control room subsystems. Instituting the proposed changes will continue to maintain the control room temperature within design limits. Changes to the Bases or license controlled document are performed in accordance with 10 CFR 50.59. This approach provides an effective level of regulatory control and ensures that the control room temperature will be maintained within design limits.

The proposed changes maintain sufficient controls to preserve the current margins of safety.

Based upon the reasoning above, the NRC staff concludes that the amendment request involves no significant hazards consideration.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

Exelon Generation Company, LLC., Docket No. 50-461, Clinton Power Station, Unit 1, DeWitt County, Illinois; Exelon Generation Company, LLC., Docket Nos. 50-237 and 50-249, Dresden Nuclear Power Station, Units 2 and 3, Grundy County, Illinois; Exelon Generation Company, LLC., Docket Nos. 50-373 and 50-374, LaSalle County Station, Units 1 and 2, LaSalle County, Illinois; Exelon Generation Company, LLC., Docket Nos. 50-352 and 50-353, Limerick Generating Station, Unit 1 and 2, Montgomery County, Pennsylvania; Exelon Generation Company, LLC., et al., Docket No. 50-219, Oyster Creek Nuclear Generating Station, Ocean County, New Jersey; Exelon Generation Company, LLC., and PSEG Nuclear LLC., Docket Nos. 50-277 and 50-278, Peach Bottom Atomic Power Station, Units 2 and 3, York and Lancaster Counties, Pennsylvania; Exelon Generation Company, LLC., Docket Nos. 50-254 and 50-265, Quad Cities Nuclear Power Station, Units 1 and 2, Rock Island County, Illinois

Date of amendment request: August 2, 2013.

Description of amendment request: The proposed amendment would modify the technical specification definition of “Shutdown Margin” (SDM) to require calculation of the SDM at a reactor moderator temperature of 68 °F or a higher temperature that represents the most reactive state throughout the operating cycle. This change is needed to address new Boiling Water Reactor fuel designs that may be more reactive at shutdown temperatures above 68°F.

Basis for proposed no significant hazards consideration determination: As required by 10 CFR 50.91(a), the licensee has provided its analysis of the issue of no significant hazards consideration, which is presented below:

EGC [Exelon Generation Company, LLC] has evaluated whether or not a significant hazards consideration is involved with the proposed amendments by focusing on the three standards set forth in 10 CFR 50.92, “Issuance of amendment,” as discussed below:

1. Does the proposed change involve a significant increase in the probability or consequences of an accident previously evaluated?

Response: No.

The proposed change revises the definition of SDM. SDM is not an initiator of any accident previously evaluated. Accordingly, the proposed change to the definition of SDM has no effect on the probability of any accident previously evaluated. SDM is an assumption in the analysis of some previously evaluated accidents and inadequate SDM could lead to an increase in consequences of those accidents. However, the proposed change revises the SDM definition to ensure that the correct SDM is determined for all fuel types at all times during the fuel cycle. As a result, the proposed change does not adversely affect the consequences of any accident previously evaluated.

Therefore, the proposed change does not involve a significant increase in the probability or consequences of an accident previously evaluated.

2. Does the proposed change create the possibility of a new or different kind of accident from any accident previously evaluated?

Response: No.

The proposed change revises the definition of SDM. The change does not involve a physical alteration of the plant (i.e., no new or different type of equipment will be installed) or a change in the methods governing normal plant operations. The change does not alter assumptions made in the safety analysis regarding SDM.

Therefore, the proposed change does not create the possibility of a new or different kind of accident from any accident previously evaluated.

3. Does the proposed change involve a significant reduction in a margin of safety?

Response: No.

The proposed change revises the definition of SDM. The proposed change does not alter the manner in which safety limits, limiting safety system settings or limiting conditions for operation are determined. The proposed change ensures that the SDM assumed in determining safety limits, limiting safety system settings or limiting conditions for operation is correct for all BWR fuel types at all times during the fuel cycle.

Therefore, the proposed change does not involve a significant reduction in a margin of safety.

Based on the above, EGC concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendments involve no significant hazards consideration.

Attorney for licensee: Mr. Bradley Fewell, Associate General Counsel, Exelon Generation Company, LLC, 4300 Winfield Road, Warrenville, IL 60555.

NRC Branch Chief: Travis L. Tate.

NextEra Energy Point Beach, LLC., Docket Nos. 50-266 and 50-301, Point Beach Nuclear Plant, Units 1 and 2, Town of Two Creeks, Manitowac County, Wisconsin

Date of amendment request: June 4, 2013.

Description of amendment request: The license amendment request proposes to revise the technical specifications (TS) to allow the use of Optimized ZIRLO™ fuel rod cladding material. The proposed change would revise TS 5.3.1 to add Optimized ZIRLO™ to the approved fuel rod cladding materials and TS 6.9.1.7 to add Westinghouse Electric Company LLC topical report WCAP-12610-P-A & CENPD-404-P-A, Addendum 1-A, “Optimized ZIRLO™,” to the analytical methods used to determine the core operating limits.

Basis for proposed no significant hazards consideration determination: As required by 10 CFR 50.91(a), the licensee has provided its analysis of the issue of no significant hazards consideration, which is presented below:

1. Does the proposed change involve a significant increase in the probability or consequences of an accident previously evaluated?

Response: No.

The proposed change would allow the use of Optimized ZIRLO™ clad nuclear fuel in the reactors. The NRC approved topical report WCAP-12610-P-A and CENPD-404-P-A, Addendum 1-A, “Optimized ZIRLO™,” prepared by Westinghouse Electric Company LLC (Westinghouse), which addresses Optimized ZIRLO™ and demonstrates that Optimized ZIRLO™ has essentially the same properties as currently licensed ZIRLO®. The fuel cladding itself is not an accident initiator and does not affect accident probability. Use of Optimized ZIRLO™ fuel cladding will continue to meet all 10 CFR 50.46 acceptance criteria and, therefore, will not increase the consequences of an accident.

Therefore, the proposed change does not involve a significant increase in the probability or consequences of an accident previously evaluated.

2. Does the proposed change create the possibility of a new or different kind of accident from any accident previously evaluated?

Response: No.

Use of Optimized ZIRLO™ clad fuel will not result in changes in the operation or configuration of the facility. Topical Report WCAP-12610-P-A and CENPD-404-P-A, Addendum 1-A, “Optimized ZIRLO™,” demonstrated that the material properties of Optimized ZIRLO™ are similar to those of standard ZIRLO®. Therefore, Optimized ZIRLO™ fuel rod cladding will perform similarly to the cladding fabricated from standard ZIRLO®, thus precluding the possibility of the fuel becoming an accident initiator and causing a new or different type of accident.

Therefore, the proposed change does not create the possibility of a new or different kind of accident from any previously evaluated.

3. Does the proposed change involve a significant reduction in the margin of safety?

Response: No.

The proposed change will not involve a significant reduction in the margin of safety because it has been demonstrated that the material properties of the Optimized ZIRLO™ are not significantly different from those of standard ZIRLO®. Optimized ZIRLO™ is expected to perform similarly to standard ZIRLO® for all normal operating and accident scenarios, including both loss of coolant accident (LOCA) and non-LOCA scenarios. For LOCA scenarios, the slight difference in Optimized ZIRLO™ material properties relative to standard ZIRLO™ could have some impact on the overall accident scenario. However, all acceptance criteria of 10 CFR 50.46 are satisfied, therefore, the proposed change does not involve a significant reduction in a margin of safety.

The NRC staff has reviewed the licensee's analysis and, based on this review, it appears that the three standards of 50.92(c) are satisfied. Therefore, the NRC staff proposes to determine that the amendment request involves no significant hazards consideration.

Attorney for licensee: William Blair, Senior Attorney, NextEra Energy Point Beach, LLC, P.O. Box 14000, Juno Beach, Florida 33408-0420.

NRC Branch Chief: Robert D. Carlson.

South Carolina Electric and Gas, Docket Nos. 52-027 and 52-028, Virgil C. Summer Nuclear Station (VCSNS) Units 2 and 3, Fairfield County, South Carolina

Date of amendments request: February 7, 2013, and revised on July 19, 2013.

Description of amendment request: The proposed change would amend Combined License Nos. NPF-93 and NPF-94 for VCSNS Units 2 and 3 by departing from the plant-specific Design Control Document (DCD) Tier 1 (and corresponding Combined License Appendix C information) and Tier 2 material by reconciling various valve descriptions and definitions in Tier 1 and Tier 2. This is being done to promote consistency within the Updated Final Safety Analysis Report (UFSAR).

Because, this proposed change requires a departure from Tier 1 information in the Westinghouse Advanced Passive 1000 DCD, the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not result in any physical changes to the plant, and therefore do not change any safety-related design requirement, qualification requirement or function. The proposed changes do not involve any accident initiating event or component failure, thus, the probabilities of the accidents previously evaluated are not affected. The proposed changes do not affect the radioactive material releases used in the accident analyses, thus, the radiological releases in the accident analyses are not affected.

Therefore, the proposed amendment does not involve a significant increase in the probability or consequences of an accident previously evaluated.

2. Does the proposed amendment create the possibility of a new or different kind of accident from any accident previously evaluated?

Response: No.

The proposed changes do not result in any physical changes to the plant, and therefore do not adversely affect any structure, system or component. No safety-related equipment qualification or design function is affected. The proposed changes do not introduce a new failure mode or create a new fault or sequence of events that could result in a radioactive material release.

Therefore, the proposed amendment does not create the possibility of a new or different kind of accident.

3. Does the proposed amendment involve a significant reduction in a margin of safety?

Response: No.

The proposed changes do not result in any physical changes to the plant, and therefore do not change valve performance, including containment isolation. No safety acceptance criterion would be exceeded or challenged. No safety-related function would be affected. Valve qualification would not be affected. The proposed changes do not affect compliance with existing design codes and regulatory criteria and do not affect any safety analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 111 Pennsylvania Avenue NW., Washington, DC 20004-2514.

NRC Branch Chief: Lawrence J. Burkhart.

STP Nuclear Operating Company, Docket Nos. 50-498 and 50-499, South Texas Project, Units 1 and 2, Matagorda County, Texas

Date of amendment request: July 23, 2013.

Description of amendment request: The amendment would revise the South Texas Project (STP), Units 1 and 2, Fire Protection Program (FPP) (incorporated in to the Updated Final Safety Analysis Report by reference) related to the alternate shutdown capability in accordance with license condition 2.E of the Facility Operating Licenses. Specifically, STP Nuclear Operating Company (STPNOC) proposes to credit the following manual operator actions in the control room prior to evacuation due to a fire for meeting the alternate shutdown capability, in addition to manually tripping the reactor that is currently credited in the STP, Units 1 and 2, FPP licensing basis:

• Initiate main steam line isolation

• Closing the pressurizer power-operated relief valves block valves

• Securing all reactor coolant pumps

• Closing feedwater isolation valves

• Securing the startup feedwater pump

• Isolating reactor coolant system (RCS) letdown

• Securing the centrifugal charging pumps

In addition, STPNOC proposes to credit the automatic trip of the main turbine upon the initiation of a manual reactor trip for meeting the alternate shutdown capability. A thermal-hydraulic analysis demonstrates that these operations will ensure that the RCS process variables remain within those values predicted for a loss of normal alternating current (a-c) power, as required by Section III.L.1 of 10 CFR part 50, appendix R.

Basis for proposed no significant hazards consideration determination: As required by 10 CFR 50.91(a), the licensee has provided its analysis of the issue of no significant hazards consideration, which is presented below:

1. Does the proposed change involve a significant increase in the probability or consequences of an accident previously evaluated?

Response: No.

The proposed change credits operations in the control room prior to evacuation in the event of a fire in order to meet safe shutdown performance criteria. The design function of structures, systems and components (SSC) are not impacted by the proposed change. The proposed change will not initiate an event. The proposed change does not alter or prevent the ability of SSCs from performing their intended function to mitigate the consequences of an initiating event. The proposed change does not increase the probability of occurrence of a fire or any other accident previously evaluated.

The proposed operations are feasible and reliable and demonstrate that the unit can be safely [shut down] in the event of a fire with no significant increase in consequences.

Therefore, the proposed change does not involve a significant increase in the probability or consequences of an accident previously evaluated.

2. Does the proposed change create the possibility of a new or different kind of accident from any accident previously evaluated?

Response: No.

The proposed change credits operations in the control room prior to evacuation in the event of a fire in order to meet safe shutdown performance criteria. The proposed change does not install or remove any plant equipment. The proposed change does not alter the design, physical configuration, or mode of operation of any plant structure, system or component. Therefore, the proposed change does not introduce any new failure mechanisms or malfunctions that can initiate an accident.

Therefore, the proposed change does not create the possibility of a new or different kind of accident from any previously evaluated.

3. Does the proposed change involve a significant reduction in a margin of safety?

Response: No.

The proposed change credits operations in the control room prior to evacuation in the event of a fire in order to meet safe shutdown performance criteria. The proposed change has no effect on the availability, operability, or performance of safety-related systems and components. The proposed change does not alter the design, configuration, operation, or function of any plant structure, system or component. The ability of any structure, system or component to perform its designated safety function is unaffected by the proposed change.

Thermal-hydraulic analyses demonstrate that the proposed operations to be performed in the control room will ensure that the reactor coolant system process variables remain within those values predicted for a loss of normal a-c power, as required by section III.L of 10 CFR part 50, appendix R. After control of the plant is achieved by the alternative shutdown system, the plant can be safely transitioned to cold shutdown conditions. A single fire-induced spurious actuation will not negate the proposed operations.

Considerable fire protection defense-in-depth features exist such that it is unlikely that a fire in the control room would result in evacuation. In the remote likelihood that control room evacuation is required and none of the proposed operator actions other than the manual reactor trip and automatic turbine trip are performed prior to arrival at the alternative shutdown stations, analyses confirm that adequate core cooling is maintained so that fuel cladding integrity is not challenged. The capability to achieve and maintain safe shutdown is maintained.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue NW., Washington, DC 20004.

NRC Branch Chief: Michael T. Markley.

Tennessee Valley Authority, Docket No. 50-390, Watts Bar Nuclear Plant (WBN), Unit 1, Rhea County, Tennessee

Date of amendment request: August 1, 2013.

Description of amendment request: The proposed amendment would modify Technical Specification (TS) Limiting Condition for Operation (LCO) for the Alternating Current Sources Operating in LCO 3.8.1, provide additional time to restore an inoperable offsite circuit, modify Surveillance Requirement 3.8.1.8, and modify the current licensing basis, as described in the Updated Final Safety Analysis Report (UFSAR), for the available maintenance feeder for the Common Station Service Transformers (CSSTs) A and B. The proposed license amendment request credits upgrades made to CSST A and B to provide two new sources of preferred Class 1 E power supply feeds in addition to the two normal Class 1 E power supply feeds. The TS change is needed to support dual unit operations without requiring a dual unit shutdown during maintenance on either preferred power CSST C or D. This proposed request also achieves licensing basis commonality for the current Operating WBN Unit 1 license with respect to those approved elements of the WBN Unit 2 application as docketed in NUREG-0847, Supplements 22 and 24.

Basis for proposed no significant hazards consideration determination: As required by 10 CFR 50.91(a), the licensee has provided its analysis of the issue of no significant hazards consideration, which is presented below:

1. Does the proposed amendment involve a significant increase in the probability or consequence of an accident previously evaluated?

Response: No.

The proposed changes described in this TS amendment request, do not alter the safety functions of the WBN Offsite Power system. Design calculations document that CSSTs A and B have adequate capacity to supply all connected loads including one train of shutdown boards in all allowable alignments and meet the separation requirements for offsite power sources. The consequences of an accident are not changed when using CSST A or B to power the shutdown boards because these CSSTs are rated to carry all required loads for any design basis accidents. The failure of a CSST is not considered to be an initiator of a plant accident and therefore the probability or consequences of accidents or events previously evaluated, as described in the UFSAR, is not changed.

Therefore, this proposed amendment does not involve a significant increase in the probability or consequences of an accident previously evaluated.

2. Does the proposed amendment create the possibility of a new or different kind of accident from any accident previously evaluated?

Response: No.

As stated above, malfunctions of the CSSTs are not considered to be an initiator for plant accidents and the modifications to the offsite power system do not create a new or different kind of accident. The purpose of the offsite power system is to provide a source of power to the safety related equipment required to mitigate a design basis accident. CSSTs A and B have been physically upgraded and proven by design calculation to meet all required GDC [General Design Criterion] 17 requirements for separation and voltage stability. Using CSSTs A and B as alternate sources of shutdown power does not negatively affect the offsite power systems ability to meet its design function.

Therefore, the proposed amendment does not create the possibility of a new or different kind of accident from any accident previously evaluated.

3. Does the proposed amendment involve a significant reduction in a margin of safety?

Response: No.

CSSTs A and B have adequate design margin to meet all possible loading scenarios as long as both CSSTs A and B are operational prior to one being used as a source of offsite power. This requirement is added to the control room drawings, plant design criteria and the UFSAR in order to ensure acceptable margin is always available prior to CSSTs A or B being used as a source of offsite power.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Acting Branch Chief: Douglas A. Broaddus.

Virginia Electric and Power Company, Docket No. 50-339, North Anna Power Station, Unit 2, Louisa County, Virginia

Date of amendment request: September 10, 2013.

Description of amendment request: The proposed license amendment (Agencywide Documents Access and Management System (ADAMS) Accession No. ML13260A256) requests the changes to the Technical Specification (TS) 3.8.1, “AC Sources-Operating.” TS 3.8.1 contains Surveillance Requirement (SR) 3.8.1.8, which requires verification of the capability to manually transfer Unit 1, 4.16 kV ESF bus AC power sources from the normal offsite circuit to the alternate required offsite circuit and this surveillance is only applicable to Unit 1. Dominion is developing a plant modification to install an alternate offsite power feed to each of the two 4.16 kV ESF buses for Unit 2, such that it will be similar to the Unit 1 design. Therefore, the proposed change would delete Note 1 to SR 3.8.1.8 to remove the limitation that excludes Unit 2 and will be consistent with the verification currently performed for Unit 1.

Basis for proposed no significant hazards consideration determination: As required by 10 CFR 50.91(a), the licensee has provided its analysis of the issue of no significant hazards consideration, which is presented below:

1. Does the proposed change involve a significant increase in the probability or consequences of an accident previously evaluated?

Response: No.

The previously evaluated accident that could be affected is a complete loss of offsite power (LOOP). Analyses have been performed to confirm that power distribution system voltages and currents with both of the new Unit 2 alternate normal to emergency bus ties in service are adequate during a unit trip scenario. The conditions under which the Unit 2 manual transfer capability is verified are the same as Unit 1. The verification test may only be performed under conditions that will not challenge steady state operation or challenge the safety of the unit. Therefore, the Unit 2 verification test (manual transfer between Unit 2 normal offsite circuit and alternate required offsite circuit) will not significantly increase the probability of a LOOP.

Should a LOOP occur, the consequences are unaffected by availability of offsite power (normal offsite circuit and alternate required offsite circuit). Therefore, the Unit 2 verification test (normal offsite circuit and alternate required offsite circuit) will not affect the consequences of an accident previously evaluated.

2. Does the change create the possibility of a new or different kind of accident from any accident previously evaluated?

Response: No.

The purpose of the surveillance test is to verify the capability to manually transfer AC power sources from the normal offsite circuit to the alternate required offsite circuit.

The only effect of the change is to permit the new Unit 2 required offsite circuits to be tested in the same manner and frequency as the corresponding Unit 1 circuits. Since the Unit 2 circuits are similar to the Unit 1 circuits, and the Unit 1 test is a required TS Surveillance to demonstrate operability of the alternate offsite circuits, permitting the Unit 2 circuits to undergo the same surveillance test will not create the possibility of a new or different kind of accident from any accident previously evaluated.

3. Does the proposed change involve a significant reduction in a margin of safety?

Response: No.

The proposed change enables SR testing of the new Unit 2 alternate offsite AC circuits to verify the capability to manually transfer AC power sources from the normal offsite circuit to the alternate required offsite circuit as is performed in Unit 1.

The margin of safety is related to the confidence in the ability of the fission product barriers to perform their design functions during and following an accident situation and the ability of the ECCS to provide adequate core cooling. These barriers include the fuel cladding, the reactor coolant system, and the containment system. The proposed change does not directly affect these barriers, nor does it involve any adverse impact on the Class 1E circuits or SSCs supplied by Class 1E power. In fact, it enhances the ability to power the required ECCS equipment during accident conditions.

Therefore, the proposed change will not involve a significant reduction in a margin of safety.

The NRC staff has reviewed the licensee's analysis and, based on this review, it appears that the three standards of 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Robert Pascarelli.

Virginia Electric and Power Company, Docket Nos. 50-280 and 50-281, Surry Power Station, Units 1 and 2, Surry County, Virginia

Date of amendment request: August 12, 2013.

Description of amendment request: The proposed amendments revise Surry Power Station, Units 1 and 2, Technical Specification (TS) 4.4.B, “Containment Leakage Rate Testing Requirements,” by replacing the reference to Regulatory Guide (RG) 1.163 with a reference to Nuclear Energy Institute (NEI) topical report NEI 94-01, Revision 3-A, as the implementation document used to develop the Surry performance-based leakage testing program in accordance with Option B of 10 CFR part 50, appendix J.

Basis for proposed no significant hazards consideration determination: As required by 10 CFR 50.91(a), the licensee has provided its analysis of the issue of no significant hazards consideration, which is presented below:

1. Does the proposed change involve a significant increase in the probability or consequences of an accident previously evaluated?

Response: No.

The proposed amendment involves changes to the Surry Containment Leakage Rate Testing Program. The proposed amendment does not involve a physical change to the plant or a change in the manner in which the plant is operated or controlled. The primary containment function is to provide an essentially leak-tight barrier against the uncontrolled release of radioactivity to the environment for postulated accidents. As such, the containment itself and the testing requirements to periodically demonstrate the integrity of the containment do not involve any accident precursors or initiators. Therefore, the probability of occurrence of an accident previously evaluated is not significantly increased by the proposed amendment.

The proposed amendment adopts the NRC-accepted guidelines of NEI 94-01, Revision 3-A, for development of the Surry Power Station Units 1 and 2 performance-based containment testing program. Implementation of these guidelines continues to provide adequate assurance that during design basis accidents, the primary containment and its components will limit leakage rates to less than the values assumed in the plant safety analyses. The potential consequences of extending the ILRT interval to 15 years have been evaluated by analyzing the resulting changes in risk. The increase in risk in terms of person-rem per year within 50 miles resulting from design basis accidents was estimated to be acceptably small and determined to be within the guidelines published in, RG 1.174. Additionally, the proposed change maintains defense-in-depth by preserving a reasonable balance among prevention of core damage, prevention of containment failure, and consequence mitigation. Dominion has determined that the increase in Conditional Containment Failure Probability due to the proposed change would be very small. Therefore, it is concluded that the proposed amendment does not significantly increase the consequences of an accident previously evaluated.

Based on the above discussion, it is concluded that the proposed change does not involve a significant increase in the probability or consequences of an accident previously evaluated.

2. Does the proposed change create the possibility of a new or different kind of accident from any accident previously evaluated?

Response: No.

The proposed amendment adopts the NRC-accepted guidelines of NEI 94-01, Revision 3-A, for the development of the Surry performance-based leakage testing program and establishes a 15-year interval for the performance of the containment ILRT. The containment and the testing requirements to periodically demonstrate the integrity of the containment exist to ensure the plant's ability to mitigate the consequences of an accident and do not involve any accident precursors or initiators. The proposed change does not involve a physical change to the plant (i.e., no new or different type of equipment will be installed) and does not change the manner in which the plant is operated or controlled.

Therefore, the proposed change does not create the possibility of a new or different kind of accident from any previously evaluated.

3. Does the proposed change involve a significant reduction in a margin of safety?

Response: No.

The proposed amendment adopts the NRC-accepted guidelines of NEI 94-01, Revision 3-A, for the development of the Surry performance-based leakage testing program and establishes a 15-year interval for the performance of the containment ILRT. This amendment does not alter the manner in which safety limits, limiting safety system setpoints, or limiting conditions for operation are determined. The specific requirements and conditions of the Containment Leakage Rate Testing Program, as defined in the TS, ensure that the degree of primary containment structural integrity and leak-tightness that is considered in the plant's safety analysis is maintained. The overall containment leakage rate limit specified by the TS is maintained, and the Type A, Type B, and Type C containment leakage tests will be performed at the frequencies established in accordance with the NRC-accepted guidelines of NEI 94-01, Revision 3-A. Containment inspections performed in accordance with other plant programs serve to provide a high degree of assurance that the containment will not degrade in a manner that is not detectable by an ILRT. A risk assessment using the current Surry PRA model concluded that extending the ILRT test interval from ten years to 15 years results in a very small change to the Surry risk profile.

Therefore, the proposed change does not involve a significant reduction in a margin of safety.

Based on the above, Dominion concludes that the proposed amendment presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for Licensee: Lillian M. Cuoco, Senior Counsel, Dominion Resource Services, Inc., 120 Tredegar St., RS-2, Richmond, VA 23219.

NRC Branch Chief: Robert J. Pascarelli.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1 F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Duke Energy Carolinas, LLC., Docket Nos. 50-369 and 50-370, McGuire Nuclear Station, Units 1 and 2, Mecklenburg County, North Carolina

Date of application for amendments: September 25, 2012, as supplemented by letters dated June 12, and August 8, 2013.

Brief description of amendments: The amendments revise selected atmospheric relative concentration values (χ/Q) for use in Control Room radiological dose analysis that were withdrawn during McGuire's request for full scope implementation of the Alternate Source Term (AST). The licensee withdrew the release points due to the source-to-receptor distances being less than 10 meters and needing to be addressed on a case-by-case basis. McGuire received NRC's approval for full scope implementation of AST on March 31, 2009 (ADAMS Accession No. ML090890627). The purpose of this amendment is for the NRC to review and approve the licensee's withdrawn χ/Q values on a case-by-case basis. The licensee will make the necessary changes to the updated final safety analysis report (UFSAR) in accordance with 10 CFR 50.71(e).

Date of issuance: September 23, 2013.

Effective date: These license amendments are effective as of its date of issuance and shall be implemented within 60 days of issuance.

Amendment Nos.: 271 and 251.

Renewed Facility Operating License Nos. NPF-9 and NPF-17: Amendments revised the licenses and UFSAR.

Date of initial notice in Federal Register: February 5, 2013 (78 FR 8199). The supplements dated June 12, and August 8, 2013, provided additional information that clarified the application, did not expand the scope of the application as originally noticed, and did not change the staff's original proposed no significant hazards consideration determination.

The Commission's related evaluation of the amendments is contained in a Safety Evaluation dated September 23, 2013.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: September 9, 2011, as supplemented by letters dated September 8, and November 23, 2010; March 9, April 21, May 3, and November 21, 2011; April 18, October 1, and October 22, 2012; and July 2, September 5, and September 16, 2013. The letters dated September 8, and November 23, 2010, and March 9, April 21, and May 3, 2011, are incorporated by reference in the September 2, 2011, license amendment request (LAR) as allowed by 10 CFR 50.32, “Elimination of replication.”

Brief description of amendment: The amendment approves: 1) additional requirements for the spent fuel and new fuel storage racks in TS 4.3.1, “Criticality”; 2) a revision to the current Nuclear Criticality Safety Analysis, which is described in the GGNS Updated Final Safety Analysis Report Sections 9.1.1, “New Fuel Storage,” and 9.1.2, “Spent Fuel Storage,” to reflect changes resulting from the extended power uprate; and 3) deletion of the spent fuel pool loading criteria Operating License condition.

Date of issuance: September 25, 2013.

Effective date: As of the date of issuance and shall be implemented within 120 days of issuance.

Amendment No: 195.

Facility Operating License No. NPF-29: The amendment revised the Facility Operating License and Technical Specifications.

Date of initial notice in Federal Register: January 24, 2012 (77 FR 3511). The supplemental letters dated September 8, and November 23, 2010; March 9, April 21, May 3, and November 21, 2011; April 18, October 1, and October 22, 2012; and July 2, September 5, and September 16, 2013, provided additional information that clarified the application, did not expand the scope of the application as originally noticed, and did not change the staff's original proposed no significant hazards consideration determination as published in the Federal Register.

The Commission's related evaluation of the amendment is contained in a Safety Evaluation dated September 25, 2013.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: September 14, 2012, as supplemented by letters dated December 17, 2012, and July 29, 2013.

Brief description of amendment: The amendment changed the methodology in the Grand Gulf Nuclear Station Updated Final Safety Analysis Report (USFAR) for postulating single passive failures of the Standby Service Water (SSW) system following a loss-of-coolant accident (LOCA). The revised methodology considers a limited size piping break in the SSW system during the first 24 hours following a LOCA, and consider only pump and valve seal leakage after more than 24 hours. The licensee will include the revised information in the UFSAR in the next periodic update in accordance with 10 CFR 50.71(e).

Date of issuance: September 25, 2013.

Effective date: As of the date of issuance and shall be implemented within 90 days of issuance.

Amendment No: 196.

Facility Operating License No. NPF-29: The amendment revised the Facility Operating License and the UFSAR.

Date of initial notice in Federal Register: February 5, 2013 (78 FR 8199). The supplemental letter dated July 29, 2013, provided additional information that clarified the application, did not expand the scope of the application as originally noticed, and did not change the staff's original proposed no significant hazards consideration determination as published in the Federal Register.

The Commission's related evaluation of the amendment is contained in a Safety Evaluation dated September 25, 2013.

No significant hazards consideration comments received: No.

Indiana Michigan Power Company, Docket No. 50-315, Donald C. Cook Nuclear Plant, Unit 1, Berrien County, Michigan

Date of amendment request: October 7, 2013, as supplemented by letters dated October 8, and October 9, 2013.

Description of amendment request: The amendment revised Technical Specification (TS) 3.6.9, “Distributed Ignition System (DIS),” to allow Train B of the DIS to be considered operable with two inoperable ignitors. The existing TS defines train operability as having no more than one ignitor inoperable. The amendment also allows one of five specific primary containment regions to have zero ignitors operable. The existing TS requires that at least one ignitor be operable in each region. The proposed TS revision is applicable until the fall 2014 refueling outage, or until the unit enters a mode that allows replacement of the affected ignitors without exposing personnel to significant radiation and safety hazards.

Date of issuance: October 9, 2013.

Effective date: As of the date of issuance, to be implemented within 1 day.

Amendment No.: 321.

Renewed Facility Operating License No. DPR-58: Amendment revises the Technical Specifications and License.

Public comments requested as to proposed no significant hazards consideration (NSHC):

No.

The Commission's related evaluation of the amendment, finding of emergency circumstances, state consultation, and final NSHC determination are contained in a safety evaluation dated October 9, 2013.

Attorney for licensee: Robert B. Haemer, Senior Nuclear Counsel, One Cook Place, Bridgman, MI 49106.

NRC Branch Chief: Robert D. Carlson.

Luminant Generation Company LLC., Docket Nos. 50-445, and 50-446, Comanche Peak Nuclear Power Plant, Units 1 and 2, Somervell County, Texas

Date of amendment request: December 19, 2012, as supplemented by letter dated May 16, 2013.

Brief description of amendments: The amendments revised Technical Specification (TS) 3.8.1, “AC [Alternating Current] Sources—Operating,” to revise the Completion Time (CT) for Required Action A.3, “Restore required offsite circuit to OPERABLE status,” on a one-time basis from 72 hours to 14 days for Comanche Peak Nuclear Power Plant, Units 1 and 2. The CT extension from 72 hours to 14 days will be used twice while completing the plant modification to install alternate startup transformer (ST) XST1A and will expire on March 31, 2014. After completion of this modification, if ST XST1 should require maintenance or if failure occurs, the alternate ST XST1A can be aligned to the Class 1E buses well within the current CT of 72 hours. Installation of alternate ST will result in improved plant design and will improve the long-term reliability of the 138 kiloVolt offsite circuit ST.

Date of issuance: September 18, 2013.

Effective date: As of the date of issuance and shall be implemented within 120 days from the date of issuance.

Amendment Nos.: Unit 1—160; Unit 2—160.

Facility Operating License Nos. NPF-87 and NPF-89: The amendments revised the Facility Operating Licenses and Technical Specifications.

Date of initial notice in Federal Register: March 4, 2013 (78 FR 14131). The supplemental letter dated May 16, 2013, provided additional information that clarified the application, did not expand the scope of the application as originally noticed, and did not change the staff's original proposed no significant hazards consideration determination as published in the Federal Register.

The Commission's related evaluation of the amendments is contained in a Safety Evaluation dated September 18, 2013.

No significant hazards consideration comments received: No.

National Institute of Standards and Technology (NIST), Docket No. 50-184, Center for Neutron Research (NBSR), Montgomery County, Maryland

Date of amendment request: July 12, 2012, as supplemented on May 14, 2013.

Brief description of amendment: The proposed amendments would revise NIST NBSR's Technical Specifications, Sections 3.7, 4.7, and 6.8, pertaining to the environmental monitoring requirements and records retention which clarifies environmental sampling procedure and record retention processes.

Date of issuance: September 24, 2013.

Effective date: As of the date of issuance.

Amendment No.: 9.

Facility Operating License No. TR-5: Amendment revised the Renewed Facility Operating License and Technical Specifications.

Date of initial notice in Federal Register: June 25, 2013 (78 FR 38083). The supplemental letter dated May 14, 2013, provided additional information that clarified the application, did not expand the scope of the application as originally noticed, and did not change the staff's original proposed no significant hazards consideration determination as published in the Federal Register.

The Commission's related evaluation of the amendment is contained in a Safety Evaluation dated September 24, 2013.

No significant hazards consideration comments received: No.

NextEra Energy Duane Arnold, LLC., Docket No. 50-331, Duane Arnold Energy Center, Linn County, Iowa

Date of application for amendment: November 13, 2012.

Brief description of amendment: The amendment revises the DAEC renewed facility operating license condition (RFOLC) C.12 to: (1) Clarify that the updated final safety analysis report (UFSAR) supplement had been supplemented by Appendix A of NUREG-1955, “Safety Evaluation Report Related to the License Renewal of Duane Arnold Energy Center,” dated November 2010, as supplemented by letter from the licensee to the NRC dated November 23, 2010,” (2) replace “future activities to be completed prior to and/or during” with “programs to be implemented and activities to be completed before,” (3) included the requirement to implement new programs and enhancements to existing programs no later than February 21, 2014, (4) include the requirement to complete activities no later than February 21, 2014, and (5) include the requirement to notify the NRC within 30 days of having completed the activities. Date of issuance: October 7, 2013.

Effective date: As of the date of issuance and shall be implemented within 30 days.

Amendment No.: 287.

Renewed Facility Operating License No. DPR-49: The amendment changes recordkeeping, reporting, or administrative procedures or requirements and changes the format of the license or otherwise makes editorial, corrective or other minor revisions.

Date of initial notice in Federal Register: April 16, 2013 (78 FR 22571). The supplemental information dated May 28, 2013, and October 1st, 2013, contained clarifying information, did not change the scope of the November 13, 2012, application on the initial no significant hazards consideration determination, and does not expand the scope of the original Federal Register notice.

The Commission's related evaluation of the amendment is contained in a Safety Evaluation dated October 7, 2013.

No significant hazards consideration comments received: No.

Southern Nuclear Operating Company, Docket Nos. 52-025 and 52-026, Vogtle Electric Generating Plant, Units 3 and 4, Fairfield County, South Carolina

Date of amendment request: February 24, 2012.

Brief description of amendment: The amendment authorizes the licensee to revise Appendix B, “Technical Specifications” of Combined Licenses NPF-91 and NPF-92 in order to improve operator usability by more closely aligning with the form and content of Technical Specifications Task Force (TSTF) Writer's Guide for Plant-Specific Improved Technical Specifications, TSTF-GG-05-01, Revision 1, and with NUREG-1431, Standard Technical Specifications—Westinghouse Plants as updated by NRC approved generic changes.

Date of issuance: September 9, 2013.

Effective date: As of the date of issuance and shall be implemented within 30 days of issuance.

Amendment Nos.: Unit 3-13, and Unit 4-13.

Facility Combined Licenses Nos. NPF-91 and NPF-92: Amendment revised the Facility Combined Licenses and Appendix B to the combined License.

Date of initial notice in Federal Register: May 29, 2012 (77 FR 31662).

The Commission's related evaluation of the amendment is contained in a Safety Evaluation dated September 9, 2013.

No significant hazards consideration comments received: No.

Southern Nuclear Operating Company, Inc., Docket Nos. 50-424 and 50-425, Vogtle Electric Generating Plant, Units 1 and 2, Burke County, Georgia and Southern Nuclear Operating Company, Inc., Docket Nos. 50-348 and 50-364, Joseph M. Farley Nuclear Plant, Units 1 and 2, Houston County, Alabama

Date of amendment request: January 23, 2013, as supplemented July 17, 2013.

Brief description of amendments: The amendments revised the following Technical Specifications: 3.4.17, “Steam Generator (SG) Tube Integrity,” 5.5.9, “Steam Generator (SG) Program,” and 5.6.10, “Steam Generator Tube Inspection Report.” These changes summarize and clarify the purpose of the TSs in accordance with TS Task Force Traveler 510, “Revision to Steam Generator Program Inspection Frequencies and Tube Sample Selection.”

Date of issuance: September 26, 2013.

Effective date: As of the date of issuance and shall be implemented within 60 days from the date of issuance.

Amendment Nos.: 171, 153, 192, and 188.

Facility Operating License Nos. NPF-68, NPF-81, NPF-2 and NPF-8 : Amendments revised the Facility Operating Licenses and the Technical Specifications.

Date of initial notice in Federal Register: May 14, 2013 (78 FR 28254). The supplemental letter dated July 17, 2013, provided additional information that clarified the application, did not expand the scope of the application as originally noticed, and did not change the staff's original proposal no significant hazards consideration determination as published in the Federal Register.

The Commission's related evaluation of the amendments is contained in a Safety Evaluation dated September 26, 2013.

No significant hazards consideration comments received: No.

Southern Nuclear Operating Company, Inc., Docket Nos. 50-348 and 50-364, Joseph M. Farley Nuclear Plant, Units 1 and 2, Houston County, Alabama

Date of amendment request: August 15, 2012, as supplemented by letters dated March 14, and June 14, 2013.

Brief description of amendment request: The amendments revised the Technical Specifications associated with the Low Temperature Overpressure System and the Pressure and Temperature Limits Report for Joseph M. Farley Nuclear Plant, Units 1 and 2.

Date of issuance: October 2, 2013.

Effective date: As of the date of issuance and shall be implemented within 60 days from the date of issuance.

Amendment Nos.: 193 and 189.

Renewed Facility Operating License Nos. NPF-2 and NPF-8: Amendments revised the Facility Operating Licenses and the Technical Specifications.

Date of initial notice in Federal Register: October 2, 2012 (77 FR 60153). The supplements dated March 14, and June 14, 2013, provided additional information that clarified the application, did not expand the scope of the application as originally noticed, and did not change the staff's original proposed no significant hazards consideration determination.

The Commission's related evaluation of the amendments is contained in a Safety Evaluation dated October 2, 2013.

No significant hazards consideration comments received: No.

Southern Nuclear Operating Company, Inc., Docket Nos. 50-424 and 50-425, Vogtle Electric Generating Plant, Units 1 and 2, Burke County, Georgia

Date of amendment request: September 1, 2011, as supplemented on February 10, April 30, December 18, 2012, February 27, June 14, August 7, August 30, 2013.

Brief description of amendments: The amendments revise Technical Specifications (TSs) 3.7.9 by changing the criteria for nuclear service cooling water tower three- and four-fan operation and provides a 7-day Completion Time for one-fan/spray cell being inoperable under certain conditions.

Date of issuance: September 18, 2013.

Effective date: As of the date of issuance and shall be implemented within 90 days from the date of issuance.

Amendment Nos.: 170 and 152.

Facility Operating License Nos. NPF-68 and NPF-81: Amendments revised the licenses and the TSs.

Date of initial notice in Federal Register: November 1, 2011 (76 FR 67489). The supplemental letters dated February 10, April 30, December 18, 2012, February 27, June 14, August 7, August 30, 2013, provided additional information clarifying the license amendment request, did not expand the scope of the application as originally noticed, and did not change the NRC staff's original proposed no significant hazards consideration as published in the Federal Register.

The Commission's related evaluation of the amendments is contained in a Safety Evaluation dated September 18, 2013.

No significant hazards consideration comments received: No.

Virginia Electric and Power Company, Docket Nos. 50-338 and 50-339, North Anna Power Station, Units 1 and 2, Louisa County, Virginia and Docket Nos. 50-280 and 50-281, Surry Power Station, Units 1 and 2, Surry County, Virginia

Date of application for amendment: September 27, 2012.

Brief description of amendment: The amendments authorize the addition of a 15-minute threshold for reactor coolant system leaks, based on NRC's Regulatory Issue Summary (RIS) 2003-18, Supplement 2, “Use of NEI 99-01, Methodology for Development of Emergency Action Levels, Revision 4, Dated January 2003,” dated December 12, 2005.

Date of issuance: September 25, 2013.

Effective date: As of the date of issuance and shall be implemented within 120 days from the date of issuance.

Amendment Nos.: 270, 252, 280, and 280.

Renewed Facility Operating License Nos. NPF-4 and NPF-7, DPR-32 and DPR-37: Amendments changed the licenses.

Date of initial notice in Federal Register: December 11, 2012 (77 FR 73691), and August 1, 2013 (78 FR 46616).

The Commission's related evaluation of the amendments is contained in a Safety Evaluation dated September 25, 2013.

No significant hazards consideration comments received: No.

Virginia Electric and Power Company, et al., Docket Nos. 50-280 and 50-281, Surry Power Station, Units 1 and 2, Surry County, Virginia

Date of application for amendments: September 26, 2012.

Brief description of amendments: These amendments revise the Technical Specifications to use a temporary 30″ seismic, non-missile protected jumper for providing service water to the component cooling heat exchangers (CCHX) while the licensee cleans, inspects, repairs (if necessary), and recoats (if necessary) the existing CCHX service water supply piping. The licensee will use the temporary jumper for up to 35 days during each of the next two Unit 1 refueling outages, which the licensee has scheduled to perform in 2013 and 2015.

Date of issuance: September 20, 2013.

Effective date: As of the date of issuance and shall be implemented within 30 days.

Amendment Nos.: 279 and 279.

Renewed Facility Operating License Nos. DPR-32 and DPR-37: Amendments change the licenses and the Technical Specifications.

Date of initial notice in Federal Register: The supplements dated June 4, and September 3, 2013, provided additional information that clarified the application, did not expand the scope of the application as originally noticed, and did not change the staff's original proposed no significant hazards consideration determination.

The Commission's related evaluation of the amendments is contained in a Safety Evaluation dated September 20, 2013.

No significant hazards consideration comments received: No

ZionSolutions, LLC, Docket Nos. 50-295 and 50-304, Zion Nuclear Power Station, Units 1 and 2, Lake County, Illinois

Date of application for amendment: May 31, 2012, and October 25, 2012, as supplemented by letters dated December 20, 2012, January 17, 2013, February 21, 2013, April 4, 2013, and May 16, 2013.

Brief description of amendment: The amendments approve the upgraded Fuel Handling Building crane.

Date of issuance: September 19, 2013.

Effective date: As of the date of issuance and shall be implemented immediately.

Amendment Nos.: 186 and 173.

Facility Operating License Nos. DPR-39 and DPR-48: These amendments are effective on the date of issuance and shall be implemented prior to the start of operations to transfer spent fuel to the Zion Independent Spent Fuel Storage Installation

Date of initial notice in Federal Register: August 7, 2012 (77 FR 47123). The October 25, 2012, December 20, 2012, January 17, 2013, February 21, 2013, April 4, 2013, and May 16, 2013, submittals provided clarifying information that did not change the scope of the original request.

The Commission's related evaluation of the amendment is contained in a Safety Evaluation dated September 19, 2013.

No significant hazards consideration comments received: No.

Dated at Rockville, Maryland, this 21st day of October 2013.
For the Nuclear Regulatory Commission.
John D. Monninger,
Deputy Director, Division of Operating Reactor Licensing, Office of Nuclear Reactor Regulation.

[FR Doc. 2013-25394 Filed 10-28-13; 8:45 am]

BILLING CODE 7590-01-P